DEPARTMENT OF HEALTH AND HUMAN SERVICES

National Institutes of Health

Eunice Kennedy Shriver National Institute of Child Health and Human Development Amended; Notice of Meeting

Notice is hereby given of a change in the meeting of the National Institute of Child Health and Human Development Special Emphasis Panel, October 18, 2022, 9 a.m. to October 19, 2022, 6 p.m., Marriott North Conference Center, 5701 Marinelli Road, North Bethesda, MD 20852 which was published in the Federal Register on September 16, 2022, FR Doc 2022-20094 87 FR 56967.

The meeting location has changed from the Marriott North Conference Center at 5701 Marinelli Road, North Bethesda, MD 20852 to Tysons Corner Marriott, 8028 Leesburg Pike, Tysons Corner, VA 22182. The meeting date and time remains the same. The meeting is closed to the public.

Dated: September 23, 2022.
David W. Freeman,
Program Analyst, Office of Federal Advisory Committee Policy.

[FR Doc. 2022-21112 Filed 9-28-22; 8:45 am]

BILLING CODE 4140-01-P